DEPARTMENT OF COMMERCE

United States Patent and Trademark Office

Patents for Humanity Program (Formerly Humanitarian Program)

ACTION: Proposed collection; comment request.

SUMMARY: The United States Patent and Trademark Office (USPTO), as part of its continuing effort to reduce paperwork and respondent burden, invites the general public and other Federal agencies to take this opportunity to comment on this revision of a currently approved collection, as required by the Paperwork Reduction Act of 1995, Public Law 104-13 (44 U.S.C. 3506(c)(2)(A)).

DATES: Written comments must be submitted on or before May 14, 2012.

ADDRESSES: You may submit comments by any of the following methods:

• Email: InformationCollection@uspto.gov. Include “0651-0066 Patents for Humanity Program comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to: Edward Elliott, Expert Advisor, Office of Policy and External Affairs, United States Patent and Trademark Office, P.O. Box 1450, Alexandria, VA 22313-1450; by telephone at 571-272-9300; or by email to Edward.Elliott@uspto.gov.

Additional information about this collection is also available at http://www.reginfo.gov under “Information Collection Review.”

SUPPLEMENTARY INFORMATION

I. Abstract

The United States Patent and Trademark Office (USPTO) is conducting a voluntary pilot program to incentivize the distribution of patented technologies or products to address humanitarian needs. This pilot program is open to any patent owners or patent licensees, including inventors who have not assigned their ownership rights to others, assignees, and exclusive or non-exclusive licensees. The USPTO plans to collect information from applicants that describe what actions they have taken with their patented technology to address humanitarian needs among an impoverished population, or how they have furthered research by others on technologies for humanitarian purposes. Applications will be considered in four categories: Medical Technology, Food and Nutrition, Clean Technology, and Information Technology. It is expected that inventions from any field of technology will be eligible for the program, as long as they are applied to one of the four categories.

This pilot program is a follow-up to the responses received from the agency's “Request for Comments on Incentivizing Humanitarian Technologies and Licensing Through the Intellectual Property System” published September 20, 2010. On February 8, 2012, the USPTO published a notice in the Federal Register announcing the pilot program and outlining the procedures for participation in it. The USPTO plans to review the results from this pilot program to determine whether it should be extended.

In order to participate in this program, applicants must submit an application describing how their actions satisfy the competition criteria to address humanitarian issues. These applications may be up to five pages long and can be supplemented with additional supporting materials. The USPTO has developed two application forms that applicants can use to apply for participation in the Patents for Humanity Pilot Program—one application covers the humanitarian uses of technologies or products and the other application covers humanitarian research. There is also a form where applicants provide their contact information which the USPTO uses to notify applicants that they have been selected for an award. The applications must be submitted electronically through the http://patentsforhumanity.challenge.gov Web site. Submitted applications will be available on the public Web site after being screened for inappropriate material.

The applications will be reviewed by independent judges. A selection committee composed of representatives from other federal agencies and laboratories will make recommendations for the awards based on the judges'reviews. Those applicants who are selected for an award will receive a certificate redeemable to accelerate select matters before the USPTO and public recognition for their efforts, including an awards ceremony at the USPTO. The certificates can be redeemed to accelerate one of the following matters: An ex parte reexamination proceeding, including one appeal to the Board of Patent Appeals and Interferences (BPAI) from that proceeding; a patent application, including one appeal to the BPAI from that application; or an appeal to the BPAI of a claim twice rejected in a patent application or reissue application or finally rejected in an ex parte reexamination, without accelerating the underlying matter which generated the appeal. The certificates cannot be transferred to other parties.

The USPTO obtained an emergency clearance from OMB for this collection, which was approved on January 25, 2012. This approval expires on July 31, 2012l.

II. Method of Collection

Electronically through the http://patentsforhumanity.challenge.gov Web site.

III. Data

OMB Number: 0651-0066.

Form Number(s): N/A.

Type of Review: Revision of an existing collection.

Affected Public: Businesses or other for-profits, non-profit institutions, and individuals.

Estimated Number of Respondents: 1,010 responses per year, with an estimated 33% (333) submitted by small entities.

Estimated Time per Response: The USPTO estimates that it will take the public approximately four hours to complete the humanitarian program application and one hour to complete the petition to extend the redemption period, depending on the nature of the information. These estimated times include gathering the necessary information, preparing the application and any supplemental supporting materials, and submitting the completed request to the USPTO.

Estimated Total Annual Respondent Burden Hours: 4,010 hours.

Estimated Total Annual Respondent Cost Burden: $709,400. The USPTO estimates that both attorneys and paralegals will complete the information in this collection. Using the professional hourly rate of $340 for attorneys in private firms and a paraprofessional hourly rate of $122 for the paralegals, the USPTO estimates $709,400 per year for the respondent cost burden for this collection.

Item | Estimated time for response (hours) | Estimated annual responses | Estimated annual burden hours
Humanitarian Program Application |  | 1,000 |
• Attorney | 1 |  | 1,000
• Paralegal | 3 |  | 3,000
Petition to Extend the Redemption Period of the Humanitarian Awards Certificate | 1 | 10 | 10
Totals |  | 1,010 | 4,010

Estimated Total Annual Non-hour Respondent Cost Burden: $0. This collection has no annual (non-hour) postage, operation or maintenance, or fee costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: March 8, 2012.
Susan K. Fawcett,
Records Officer, USPTO, Office of the Chief Information Officer.

[FR Doc. 2012-5988 Filed 3-12-12; 8:45 am]

BILLING CODE 3510-16-P